DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security (BIS).

Title: Licensing Exemptions and Exclusions.

OMB Control Number: None.

Form Number(s): None.

Type of Request: Regular submission.

Burden Hours: 14,576.

Number of Respondents: 2,182.

Average Hours per Response: 15 minutes to 60 hours.

Needs and Uses: This collection of information will consolidate ten existing BIS information collections into one new collection. All of these existing collections implement export licensing exceptions or exclusions in which an exporter may chose to exchange a requirement to obtain an individual validated export license with a reporting and/or recordkeeping requirement. These exclusions and exceptions are designed to reduce burden in approved collection, OMB Control No. 0694-0088 “Simplified Network Application Process and Multipurpose Application Form.” The existing collection authorities that are being consolidated are—OMB Control Nos.

1. 0694-0023—Written Assurances for Exports of Technical Data under License Exception TSR.

2. 0694-0025—Short Supply—Unprocessed Western Red Cedar.

3. 0694-0029—License Exception TMP: Special Requirements.

4. 0694-0033—Humanitarian Donations.

5. 0694-0086—Report of Sample Shipments of Chemical Weapons Precursors.

6. 0694-0101—One-time Report For Foreign Software or Technology Eligible For De Minimis Exclusion.

7. 0694-0104—Commercial Encryption Items under the Jurisdiction of the Department of Commerce.

8. 0694-0106—Recordkeeping Requirements under the Wassenaar Arrangement.

9. 0694-0123—Prior Notification of Exports under License Exception AGR.

10. 0694-0133—Thermal Imaging Camera Reporting.

The consolidation of these collections will reduce the cost of renewing 10 individual collections every three years and also make it easier to add additional exclusions and exceptions as revisions to an existing collection. BIS will discontinue the ten collections when this new collection is authorized.

Affected Public: Business or other for-profit organizations.

Frequency: On occasion.

Respondent's Obligation: Required to obtain or retain benefits.

OMB Desk Officer: Jasmeet Seehra, (202) 395-3123.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Jasmeet Seehra, OMB Desk Officer, by e-mail to Jasmeet_K._Seehra@omb.eop.gov, or by fax to (202) 395-5167.

Dated: March 23, 2010.
Gwellnar Banks,
Management Analyst, Office of the Chief Information Officer.

[FR Doc. 2010-6822 Filed 3-26-10; 8:45 am]

BILLING CODE 3510-33-P